FEDERAL DEPOSIT INSURANCE CORPORATION

Notice of Termination, 10406, Community Capital Bank, Jonesboro, Georgia

The Federal Deposit Insurance Corporation (FDIC), as Receiver for 10406, Community Capital Bank, Jonesboro, Georgia (Receiver) has been authorized to take all actions necessary to terminate the receivership estate of Community Capital Bank (Receivership Estate); The Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective October 1, 2015 the Receivership Estate has been terminated, the Receiver discharged, and the Receivership Estate has ceased to exist as a legal entity.

Dated: October 27, 2015.
Federal Deposit Insurance Corporation
Robert E. Feldman,
Executive Secretary.

[FR Doc. 2015-27682 Filed 10-29-15; 8:45 am]

BILLING CODE 6714-01-P